DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet on September 26-27, 2002 in Enterprise, Oregon. The purpose of the meeting is to meet as a Committee to complete business items identified at the June 14 meeting and tour Title II project sites on the Wallowa-Whitman National Forest.

DATES: The meeting will be held as follows: September 2, 2002, 8 a.m. to 5 p.m., Enterprise, Oregon; September 27, 2002, 8 a.m. to 3 p.m., Enterprise, Oregon.

ADDRESSES: The September 26, 2002 meeting will be held at the Wallowa Mountains Visitor Center, located at 88401 Highway 82, Enterprise, Oregon. The September 27, 2002 Title II project tour will start at Wallowa Mountains Visitor Center, located at 88401 Highway 82, Enterprise, Oregon and proceed through the Wallowa-Whitman National Forest.

FOR FURTHER INFORMATION CONTACT: Jennifer Harris, Designated Federal Official, USDA, Malheur National Forest, PO Box 909, John Day, Oregon 97845. Phone: (541) 575-3008.

SUPPLEMENTARY INFORMATION: At the September 26 meeting the RAC will receive an update of how the fiscal year 2002 projects are progressing, discuss replacement of alternate RAC members, initiate annual monitoring report procedures, and review project issues. A public input opportunity will be provided at 1:15 p.m. on September 26, and individuals will have the opportunity to address the committee at that time. After public comment the RAC will depart Enterprise to tour a Title II project site, from 1:45 p.m. to 5 p.m. On September 27 the committee will tour the Wallowa-Whitman National Forest and review fiscal year 2002 projects.

Dated: August 28, 2002.
Jennifer L. Harris,
Designated Federal Official.

[FR Doc. 02-22781 Filed 9-6-02; 8:45 am]

BILLING CODE 3410-DK-M